ENVIRONMENTAL PROTECTION AGENCY

40 CFR Part 165

[OPP-190001C; FRL-6495-4]

RIN 2070-AB95

Standards for Pesticide Containers and Containment; Reopening of Comment Period

AGENCY: Environmental Protection Agency (EPA).

ACTION: Proposed rule; reopening of comment period.

SUMMARY: On October 21, 1999 (64 FR 56918), EPA reopened the comment period on the proposed rule “Standards for Pesticide Containers and Containment” (59 FR 6712, February 11, 1994) to obtain comment on four specific issues. On December 21, 1999, EPA published a notice in the Federal Register to extend the comment period by 60 days until February 19, 2000. EPA is now reopening the comment period for an additional 30 days until March 20, 2000. The October 21, 1999 notice solicited comments on potential changes that would reduce the scope of the container standards, add an exemption for certain antimicrobial pesticides, and adopt some of the Department of Transportation (DOT) hazardous materials regulations. That notice also requested comments on the definition for small business used to identify small pesticide formulators, agrichemical dealers and commercial pesticide applicators in the small entity impact analysis. These potential changes, if adopted in the final rule, would support EPA's goal of pollution prevention by promoting the use of refillable containers and would harmonize and promote consistency within the Federal packaging standards by adopting the DOT standards. In addition, the changes would decrease the estimated economic impact by reducing the number of pesticide products subject to the container requirements compared to the original proposal.

DATES: Comments, identified by the docket control number OPP-190001C, must be received on or before March 20, 2000.

ADDRESSES: Comments may be submitted by mail, electronically, or in person. Please follow the detailed instructions for each method as provided in Unit I. of the SUPPLEMENTARY INFORMATION. To ensure proper receipt by EPA, it is imperative that you identify docket control number OPP-190001C in the subject line on the first page of your response.

FOR FURTHER INFORMATION CONTACT: Nancy Fitz, Field and External Affairs Division (7506C), Office of Pesticide Programs, Environmental Protection Agency, Ariel Rios Building, 1200 Pennsylvania Ave., NW., Washington, DC 20460; telephone number: (703) 305-7385; fax number: (703) 308-3259; e-mail address: fitz.nancy@epa.gov.

SUPPLEMENTARY INFORMATION:

I. General Information

A. Does This Action Apply to Me?

You may be potentially affected by this action if you are a pesticide formulator, agrichemical dealer, or an independent commercial applicator. However, the issues addressed in this action apply mainly to pesticide formulators. Potentially affected categories and entities may include, but are not limited to:

Categories | NAICS | SIC | Examples of Potentially Affected Entities
Pesticide formulators | 32532 | 2879 | Establishments that formulate and prepare insecticides, fungicides, herbicides, or other pesticides from technical chemicals or concentrates produced by pesticide manufacturing establishments. Some formulating establishments are owned by the large basic pesticide producers and others are independent.
Agrichemical dealers | 44422 | 5191 | Retail dealers that distribute or sell pesticides to agricultural users.
Independent commercial applicators | 115112 | 0721 | Businesses that apply pesticides for compensation (by aerial and/or ground application) and that are not affiliated with agrichemical dealers.

This listing is not intended to be exhaustive, but rather provides a guide for readers regarding entities likely to be affected by this action. Other types of entities not listed above could also be affected. The Standard Industrial Classification (SIC) codes and the North American Industrial Classification System (NAICS) codes have been provided to assist you and others in determining whether or not this action applies to certain entities. To determine whether you or your business is affected by this action, you should carefully examine the applicability provisions in Unit VII of the proposed rule published in the Federal Register of October 21, 1999 (64 FR 56918) and in §§ 165.100, 165.120, 165.122, 165.140, 165.141, and 165.142 of the original proposed rule (59 FR 6712, February 11, 1994). If you have any questions regarding the applicability of this action to a particular entity, consult the person listed in the FOR FURTHER INFORMATION CONTACT section.

B. How can I get additional information, including copies of this document and other related documents?

1. Electronically. You may obtain electronic copies of this document and various support documents from the EPA internet Home Page at http://www.epa.gov/. On the Home Page select “Laws and Regulations” and then look up the entry for this document under the “Federal Register—Environmental Documents.” You can also go directly to the “Federal Register” listings at http://www.epa.gov/fedrgstr/.

2. In person. The EPA has established an official record for this action under docket control number OPP-190001C. The official record consists of the documents specifically referenced in this action, any public comments received during an applicable comment period, and other information related to this action, including any information claimed as confidential business information (CBI). This official record includes the documents that are physically located in the docket, as well as the documents that are referenced in those documents. The public version of the official record does not include any information claimed as CBI. A public version of this record, including printed, paper versions of any electronic comments submitted during the comment period is available for inspection in the Public Information and Records Integrity Branch (PIRIB), Rm. 119, Crystal Mall #2, 1921 Jefferson Davis Highway, Arlington, VA, from 8:30 a.m. to 4 p.m., Monday through Friday, excluding legal holidays. The PIRIB telephone number is 703-305-5805.

C. How and to whom do I submit comments?

As described in Unit I. of the proposed rule published in the Federal Register of October 21, 1999 (64 FR 56918) (FRL-5776-3), you may submit your comments through the mail, in person, or electronically. Please follow the instructions that are provided in the proposed rule. Do not submit any information electronically that you consider to be CBI. To ensure proper receipt by EPA, be sure to identify docket control number OPP-190001C in the subject line on the first page of your response.

D. How should I handle CBI information that I want to submit to the Agency?

Do not submit any information electronically that you consider to be CBI. You may claim information that you submit in response to this document as CBI by marking any part or all of that information as CBI. Information so marked will not be disclosed except in accordance with procedures set forth in 40 CFR part 2. A copy of the comment that does not contain CBI must be submitted for inclusion in the public version of the official record. Information not marked confidential will be included in the public version of the official record by EPA without prior notice. If you have any questions about CBI or the procedures for claiming CBI, please consult with the person identified in the FOR FURTHER INFORMATION CONTACT section.

E. What should I consider as I prepare my comments for EPA?

We invite you to provide your views on the various options we discuss in this document, new approaches we haven't considered, the potential impacts of the various options (including possible unintended consequences), and any data or information that you would like the Agency to consider during the development of the final action. You may find the following suggestions helpful for preparing your comments:

• Explain your views as clearly as possible.

• Describe any assumptions that you use.

• Provide solid technical information and/or data to support your views.

• If you estimate potential burden or costs, explain how you arrive at the estimate.

• Tell us what you support, as well as what you disagree with.

• Provide specific examples to illustrate your concerns.

• Offer alternative ways to improve the rule.

• Make sure to submit your comments by the deadline in this notice.

• To ensure proper receipt by EPA, be sure to identify the docket control number assigned to this action in the subject line on the first page of your response. You may also provide the name, date, and Federal Register citation.

II. Background

A. What action is EPA taking?

EPA is reopening the comment period for 30 days in response to two requests for additional time to prepare comments. On October 21, 1999 (64 FR 56918) (FRL-5776-3), EPA reopened the comment period on the rule “Standards for Pesticide Containers and Containment” to obtain comment on four specific issues. The October 21, 1999 Federal Register notice solicited comments on four aspects of the original 1994 proposed rule that proposed container design and residue removal requirements for refillable and nonrefillable pesticide containers and standards for pesticide containment structures. (59 FR 6712, February 11, 1994) (FRL-4168-9). Because of the lengthy time period between the original proposal in 1994 and the October 21, 1999 notice to reopen the comment period, EPA believes that granting an additional 30 days is warranted.

B. What is the agency's authority for taking this action?

EPA proposed the standards for pesticide containers and containment based on the authority in section 19 of the Federal Insecticide, Fungicide, and Rodenticide Act.

III. Do Any Regulatory Assessment Requirements Apply to This Action?

No. This action is not a rulemaking, it merely extends the date by which public comments must be submitted to EPA on a proposed rule that previously published in the Federal Register of October 21, 1999 (64 FR 56918). For information about the applicability of the regulatory assessment requirements to that proposed rule, which published in the Federal Register, please refer to the discussion in Unit X of that document.

List of Subjects in 40 CFR Part 165

Environmental protection, Antimicrobial pesticides, Packaging and containers, Pesticides and pests.

Dated: February 19, 2000.
Susan H. Wayland,
Deputy Assistant Administrator for Prevention, Pesticides and Toxic Substances.

[FR Doc. 00-4415 Filed 2-18-00; 5:01 pm]

BILLING CODE 6560-50-F